DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on October 30, 2013 (Federal Register/Vol. 78, No. 210/pp. 65038-65040).

DATES: Comments must be received on or before March 3, 2014.

FOR FURTHER INFORMATION CONTACT: Dr. Russell Pierce, Contracting Officer's Technical Representative, Office of Behavioral Safety Research (NTI-132), National Highway Traffic Safety Administration, 1200 New Jersey Avenue SE., W46-472, Washington, DC 20590. Dr. Pierce's phone number is (202) 366-5599 and his email address is russell.pierce@dot.gov.

SUPPLEMENTARY INFORMATION:

OMB Control Number: None.

Title: Medical Review Guidelines and Medical Advisory Board Practices.

Form No.: NHTSA 1228.

Type of Review: Regular.

Respondents: TransAnalytics (NHTSA's Contractor) plans to enlist the assistance of the American Association of Motor Vehicle Administrators (AAMVA) to identify the most appropriate contact in each State (and the District of Columbia), for distribution of the questionnaire and the narrative summary for review and update.

Estimated Number of Respondents: 51.

Estimated Time per Response: The average amount of time for each State to complete the questionnaire is estimated at 5 hours. This includes time for each medical review contact to review and edit the narrative describing their State's medical review structure and process and the time that may be required to respond to telephone contacts made by TransAnalytics if necessary, to follow-up or clarify questionnaire responses.

Total Estimated Annual Burden Hours: 255 hours.

Frequency of Collection: This census will administered a single time.

Abstract: As our population ages, age-related impairments in safe driving abilities will become more prevalent. The private automobile remains by far the most often used and most preferred means of meeting community mobility needs among older adults. Along with the increase in the number of older drivers, an increase in the driving exposure of older adults is likely, both in terms of the frequency of their trips and the distances they drive. In addition, due to increased physical frailty, older individuals are also most likely to be seriously injured or killed in an automotive crash. Therefore, driver medical review practices are likely to assume a more prominent role in the years ahead.

Medical review guidelines and practices can help evaluate drivers referred to a State motor vehicle licensing agency for reexamination due to concerns about unsafe driving performance possibly resulting from suspected age or medical condition related impairments in visual, physical, or mental abilities. Society has an interest in ensuring that these medical review guidelines and practices are in place and are effective in reducing motor vehicle crashes, injury, and death.

This project will collect information from an individual in the Medical Review Department in each of the 50 State Driver Licensing Agencies and The District of Columbia about their State's driver medical review structure and processes. The information collected will be used to produce a short narrative describing each State's medical review structure and processes, plus several appendices with tables displaying each individual State's responses to the questions, and totals for each response. Data will be collected, according to each respondent's preference, via a Microsoft Word document distributed and collected via email or a print version distributed and collected via U.S. mail, and the responses will consist primarily of checkbox response types and fill-in-the-blank options when non-standard checkboxes are selected. Additionally, questionnaire respondents will be provided with a short narrative that describes their State's medical review processes, and asked to review and edit/update the narrative as necessary to ensure its accuracy.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited On: whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. Section 3506(c)(2)(A).

Issued in Washington, DC, on January 27, 2014.
Jeff Michael,
Associate Administrator, Research and Program Development.

[FR Doc. 2014-01854 Filed 1-29-14; 8:45 am]

BILLING CODE 4910-59-P